DEPARTMENT OF COMMERCE

National Oceanic and Atmospheric Administration

50 CFR Part 648

[Docket No. 180808738-8738-01]

RIN 0648-XG417

Fisheries of the Northeastern United States; Golden Tilefish Fishery; 2019 Specifications

AGENCY: National Marine Fisheries Service (NMFS), National Oceanic and Atmospheric Administration (NOAA), Commerce.

ACTION: Temporary final rule.

SUMMARY: We are finalizing specifications for the 2019 commercial golden tilefish fishery, including the annual catch and total allowable landings limits. This action establishes allowable harvest levels and other management measures to prevent overfishing while allowing optimum yield, consistent with the Magnuson-Stevens Fishery Conservation and Management Act and the Tilefish Fishery Management Plan.

DATES: Effective November 1, 2018, through October 31, 2019.

FOR FURTHER INFORMATION CONTACT: Douglas Potts, Fishery Policy Analyst, 978-281-9341.

SUPPLEMENTARY INFORMATION:

Background

The golden tilefish fishery is managed by the Mid-Atlantic Fishery Management Council under the Tilefish Fishery Management Plan (FMP), which outlines the Council's process for establishing annual specifications. Regulations implementing the Tilefish FMP appear at 50 CFR part 648, subparts A and N, which require the Council to recommend acceptable biological catch (ABC), annual catch limit (ACL), annual catch target (ACT), total allowable landings (TAL), and other management measures, for up to three years at a time. On September 7, 2017, NMFS proposed 2018 specifications for the golden tilefish fishery and announced projected specifications for 2019 and 2020 based on Council recommendations (82 FR 42266). Public comment was accepted through September 22, 2017. We published a final rule implementing the 2018 specifications on November 7, 2017 (82 FR 51578).

On October 23, 2017, we published a proposed rule (82 FR 48967) to implement Framework Adjustment 2 to the Tilefish FMP, and accepted public comment through November 7, 2017. A final rule implementing Framework 2 was published on March 13, 2018 (83 FR 10803). One provision of Framework 2 changed how assumed discards are accounted for in the specifications setting process. As a result, the Framework 2 final rule adjusted the previously published 2018 specifications and projected specifications for 2019 and 2020 (Table 1). Additional background information regarding the development of these specifications was provided in these rules and is not repeated here.

Table 1—Summary of Golden Tilefish Specifications
| 2018: mt | 2018: million lb | Final 2019: mt | Final 2019: million lb | Projected 2020: mt | Projected 2020: million lb
Overfishing Limit | 1,058 | 2.332 | 1,098 | 2.421 | 1,039 | 2.291
ABC | 742 | 1.636 | 742 | 1.636 | 742 | 1.636
ACL | 742 | 1.636 | 742 | 1.636 | 742 | 1.636
IFQ ACT | 705 | 1.554 | 705 | 1.554 | 705 | 1.554
Incidental ACT | 37 | 0.082 | 37 | 0.082 | 37 | 0.082
IFQ TAL | 705 | 1.554 | 705 | 1.554 | 705 | 1.554
Incidental TAL | 33 | 0.072 | 33 | 0.072 | 33 | 0.072

At the end of each fishing year, we evaluate catch information and determine if the ACL has been exceeded. If the ACL is exceeded, the regulations at 50 CFR 648.293 require a pound-for-pound reduction in a subsequent fishing year. During fishing year 2018, there were no annual catch limit or total allowable landings overages. Also, there is no new biological information that would require altering the projected 2019 specifications. Because no overages have occurred, we are announcing the final specifications for fishing year 2019, as projected in the Framework 2 rule, and outlined above in Table 1.

As in previous years, no golden tilefish quota has been allocated for research set-aside. All other management measures in the golden tilefish fishery will remain unchanged for the 2018-2020 fishing years. The incidental trip limit will stay at 500 lb (226.8 kg), or 50 percent, by weight, of all species being landed, including tilefish; whichever is less. The recreational catch limit will remain eight fish per-angler, per-trip. Annual IFQ allocations will be issued to individual quota shareholders in mid-October, before the November 1 start of the fishing year.

The fishery management plan allows for the previous year's specifications to remain in place until replaced by a subsequent specifications action (rollover provision). As a result, the 2018 specifications remain in effect until replaced by the 2019 specifications included in this rule.

We will publish notice in the Federal Register of any revisions to these specifications if an overage occurs in 2019 that would require adjusting the 2020 projected specifications. We will provide notice of the final 2020 specifications prior to the November 1, 2019, start of the 2020 fishing year.

Classification

Pursuant to section 304(b)(1)(A) of the Magnuson-Stevens Act, the NMFS Assistant Administrator has determined that this rule is consistent with the Tilefish FMP, other provisions of the Magnuson-Stevens Act, and other applicable law.

The Assistant Administrator for Fisheries, NOAA (AA), finds it is impracticable, unnecessary, and contrary to the public interest to provide for prior notice and an opportunity for public comment, pursuant to authority set forth at U.S.C. 553(b)(B). The proposed rules for the 2018-2020 specifications and Framework 2 provided the public with the opportunity to comment on the projected specifications for 2019 and 2020, and the specifications for fishing year 2019 remain the same as projected in the Framework 2 rulemaking. All comments received were addressed in the respective final rules for the 2018-2020 specifications and Framework 2. Similarly, the need to implement these measures in a timely manner for the start of the golden tilefish fishing year, constitutes good cause under authority contained in 5 U.S.C. 553(d)(3), to establish an effective date less than 30 days after date of publication. The public and fishing industry participants expect this action because we previously alerted the public in the proposed and final rules that we would conduct this review in interim years of the status quo multi-year specifications and announce the final quota prior to the start of the fishing year on November 1.

This rule is exempt from review under Executive Order 12866 because this action contains no implementing regulations.

This rule does not duplicate, conflict, or overlap with any existing Federal rules.

A final regulatory flexibility analysis (FRFA) was prepared for the 2018-2020 specifications final rule. That analysis included the potential impacts of the projected specifications for 2019 and 2020, and no new information has arisen that would change the conclusions drawn in that previous analysis. Because advance notice and the opportunity for public comment are not required for this action under the Administrative Procedure Act, or any other law, the analytical requirements of the Regulatory Flexibility Act, 5 U.S.C. 601, et seq., do not apply to this rule. Therefore, no new regulatory flexibility analysis is required and none has been prepared.

This action does not contain a collection of information requirement for the purposes of the Paperwork Reduction Act.

Authority: 16 U.S.C. 1801 et seq.

Dated: October 23, 2018.
Samuel D. Rauch, III,
Deputy Assistant Administrator for Regulatory Programs, National Marine Fisheries Service.

[FR Doc. 2018-23431 Filed 10-25-18; 8:45 am]

BILLING CODE 3510-22-P